DEPARTMENT OF HEALTH AND HUMAN SERVICES

National Institutes of Health

National Cancer Institute; Amended Notice of Meeting

Notice is hereby given of a change in the meeting of the National Cancer Advisory Board, December 7, 2010, 9 a.m. to December 7, 2010, 5:30 p.m., National Institutes of Health, Building 31, 31 Center Drive, Bethesda, MD 20892 which was published in the Federal Register on November 8, 2010, 75 FR 68611.

This notice is amending the start and end times of the closed session from 4:30 p.m.-5:30 p.m. to 4:15 p.m. to 5 p.m. The adjournment time of this meeting has also been changed from 5:30 p.m. to 5 p.m.

Dated: November 22, 2010.
Jennifer S. Spaeth,
Director, Office of Federal Advisory Committee Policy.

[FR Doc. 2010-29950 Filed 11-26-10; 8:45 am]

BILLING CODE 4140-01-P